DEPARTMENT OF COMMERCE

National Oceanic and Atmospheric Administration

[RTID 0648-XF139]

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory bodies will meet September 17-24, 2025 in Spokane, Washington and via webinar. The Pacific Council meeting will be live streamed with the opportunity to provide public comment remotely. The following groups will meet in person in Spokane: Pacific Council, Scientific and Statistical Committee's Groundfish Subcommittee, Scientific and Statistical Committee, and Budget Committee. The following groups will meet online: Groundfish Management Team, Groundfish Advisory Subpanel, and Enforcement Consultants.

DATES: The Pacific Council meeting will begin on Sunday, September 21, 2025, at 9 a.m. Pacific Time (PT), reconvening at 8 a.m. on Monday, September 22 through Wednesday, September 24, 2025. All meetings are open to the public, except for a Closed Session held from 8 a.m. to 9 a.m., Sunday, September 21, 2025 to address litigation and personnel matters. The Pacific Council will meet as late as necessary each day to complete its scheduled business. Advisory Body meetings begin online on Wednesday, September 17, 2025 as outlined in the schedule of ancillary meetings below.

ADDRESSES: Meetings of the Pacific Council and its advisory entities will be held at the DoubleTree by Hilton Spokane City Center, 322 North Spokane Falls Court, Spokane, WA 99201; Telephone: 509-455-9600. Specific meeting information, including directions to join the meeting, connecting to the live stream broadcast, and system requirements will be provided in the meeting announcement on the Pacific Council's website (see www.pcouncil.org). You may send an email to Mr. Kris Kleinschmidt (kris.kleinschmidt@pcouncil.org) or contact him at (503) 820-2412 for technical assistance.

Council address: Pacific Fishery Management Council, 7700 NE Ambassador Place, Suite 101, Portland, OR 97220-1384.

FOR FURTHER INFORMATION CONTACT: Mr. Merrick Burden, Executive Director, Pacific Council; telephone: (503) 820-2418 or (866) 806-7204 toll-free, or access the Pacific Council website, www.pcouncil.org, for the proposed agenda and meeting briefing materials.

SUPPLEMENTARY INFORMATION: The September 21-24, 2025 meeting of the Pacific Council will be streamed live on the internet. The broadcasts begin initially at 9 a.m. PT Sunday, September 21, 2025 and 8 a.m. Monday, September 22, 2025 through Wednesday, September 24, 2025. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org).

The following items are on the Pacific Council agenda, but not necessarily in this order. Agenda items noted as “Final Action” refer to actions requiring the Pacific Council to transmit a proposed fishery management plan, proposed plan amendment, or proposed regulations to the U.S. Secretary of Commerce, under Sections 304 or 305 of the Magnuson-Stevens Fishery Conservation and Management Act. Additional detail on agenda items, Council action, and advisory entity meeting times are described in Agenda Item A.4, Proposed Council Meeting Agenda, and will be in the advance September 2025 briefing materials and posted on the Pacific Council website at www.pcouncil.org no later than Friday, August 29, 2025.

A. Call to Order

1. Opening Remarks

2. New Council Member Appointments

3. Roll Call

4. Agenda

5. Executive Director's Report

B. Open Comment Period

1. Comments on Non-Agenda Items

C. Habitat Issues

1. Current Habitat Issues

D. Highly Migratory Species Management

1. National Marine Fisheries Service Report

2. International Management Activities

E. Pacific Halibut Management

1. 2026 Commercial and Recreational Catch Sharing Plan and Annual Regulations—Preliminary

F. Salmon Management

1. Methodology Review—Final Topic Selection

G. Groundfish Management

1. National Marine Fisheries Service Report

2. Phase 2 Stock Definitions—Final Action

3. Adopt Stock Assessments

4. Stock Assessment Methodology Topic Selection—Final Topics

5. Trawl Catch Share Program Review—Preliminary

6. Initial Harvest Specifications and Management Measures Actions for 2027-28

7. Inseason Adjustments—Final Action

H. Cross Fishery Management Plan

1. Adaptive Management and Flexibility—Scoping

2. Council Response to Executive Orders and Administration Updates

I. Administrative Matters

1. Fiscal Matters

2. Approve Council Meeting Records

3. Membership Appointments and Council Operating Procedures

4. Future Council Meeting Agenda and Workload Planning

Advisory Body Agendas

Advisory body agendas will include discussions of relevant issues that are on the Pacific Council agenda for this meeting and may also include issues that may be relevant to future Pacific Council meetings. Proposed advisory body agendas for this meeting will be available on the Pacific Council website, www.pcouncil.org, no later than the end of the day Friday, August 29, 2025.

Schedule of Ancillary Meetings

Day 1—Wednesday, September 17, 2025

Groundfish Advisory Subpanel: 8 a.m.

Groundfish Management Team: 8 a.m.

Day 2—Thursday, September 18, 2025

Groundfish Advisory Subpanel: 8 a.m.

Groundfish Management Team: 8 a.m.

Scientific and Statistical Committee Groundfish Subcommittee: 8 a.m.

Scientific and Statistical Committee: 1 p.m.

Day 3—Friday, September 19, 2025

Scientific and Statistical Committee: 8 a.m.

Groundfish Advisory Subpanel: 8 a.m.

Groundfish Management Team: 8 a.m.

Enforcement Consultants: 2 p.m.

Day 4—Saturday, September 20, 2025

Scientific and Statistical Committee: 8 a.m.

Groundfish Advisory Subpanel: 8 a.m.

Groundfish Management Team: 8 a.m.

Budget Committee: 9 a.m.

Groundfish Assessment Presentation: 1 p.m.

Enforcement Consultants: As Necessary

Day 5—Sunday, September 21, 2025

Groundfish Advisory Subpanel: 8 a.m.

Groundfish Management Team: 8 a.m.

Enforcement Consultants: As Necessary

Day 6—Monday, September 22, 2025

Groundfish Advisory Subpanel: As Necessary

Groundfish Management Team: As Necessary

Enforcement Consultants: As Necessary

Day 7—Tuesday, September 23, 2025

Groundfish Advisory Subpanel: As Necessary

Groundfish Management Team: As Necessary

Enforcement Consultants: As Necessary

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@pcouncil.org; (503) 820-2412) at least 10 business days prior to the meeting date.

Dated: August 25, 2025.
Rey Israel Marquez,
Acting Deputy Director, Office of Sustainable Fisheries, National Marine Fisheries Service.

[FR Doc. 2025-16393 Filed 8-26-25; 8:45 am]

BILLING CODE 3510-22-P